DEPARTMENT OF JUSTICE

[OMB Number 1105-0086]

Justice Management Division; Office of Attorney Recruitment and Management; Agency Information Collection Activities: Proposed Collection; Comments Requested

ACTION: 60-Day Notice of Information Collection Under Review: Applications for the Attorney Student Loan Repayment Program.

The Department of Justice (DOJ), Justice Management Division, Office of Attorney Recruitment and Management (OARM), will be submitting the following information collection request to the Office of Management and Budget (OMB) for review and approval in accordance with the Paperwork Reduction Act of 1995. The proposed information collection is published to obtain comments from the public and affected agencies. Comments are encouraged and will be accepted for 60 days until August 2, 2010. This process is conducted in accordance with 5 CFR 1320.10.

Written comments and/or suggestions regarding the item(s) contained in this notice, especially regarding the estimated public burden and associated response time, should be directed to the Office of Management and Budget, Office of Information and Regulatory Affairs, Attention: Department of Justice Desk Officer, Washington, DC, 20530. Additionally, comments may be submitted to OMB via facsimile to 202-395-7285. Comments may also be submitted to the Department Clearance Officer, United States Department of Justice, Suite 1600, 601 D Street, NW., Washington, DC 20530.

Written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection:

(1) Type of information collection: Proposed New Collection.

(2) The title of the collection: Applications for the Attorney Student Loan Repayment Program.

(3) The agency form number, if any, and the applicable component of the department sponsoring the collection: Form Number: none. Office of Attorney Recruitment and Management, Justice Management Division, U.S. Department of Justice.

(4) Affected public who will be asked or required to respond, as well as a brief abstract: Primary: Individuals or households. Other: None. The Department of Justice Attorney Student Loan Repayment Program (ASLRP) is an agency recruitment and retention incentive program based on 5 U.S.C. 5379, as amended, and 5 CFR part 537. The Department selects participants during an annual open season each spring. Any one currently employed as an attorney or hired to serve in an attorney position within the Department may request consideration for the ASLRP. The Department selects new attorneys each year for participation on a competitive basis and renews current beneficiaries who remain qualified for these benefits, subject to availability of funds. There are two types of application forms—one is for new requests, and the other for renewal requests. In addition, there is a three-year service agreement form, and a one-year service extension form.

(5) An estimate of the total number of respondents and the amount of time estimated for an average respondent to respond/reply: The Department anticipates that on a yearly basis, about 175 respondents will complete the application for a new request. In addition, each year the Department expects to receive approximately 300 applications from attorneys and law clerks requesting renewal of the benefits they received in previous years. It is estimated that each new application will take one (1) hour to complete, and each renewal application approximately 15 minutes to complete.

(6) An estimate of the total public burden (in hours) associated with the collection: The total estimated annual public burden associated with this collection is 250 hours.

If additional information is required, contact Ms. Lynn Bryant, Department Clearance Officer, United States Department of Justice, Justice Management Division, Policy and Planning Staff, Suite 1600, 601 D Street, NW., Washington, DC 20530.

Dated: May 26, 2010.
Lynn Bryant,
Department Clearance Officer, PRA,
U.S. Department of Justice.

[FR Doc. 2010-13124 Filed 6-1-10; 8:45 am]

BILLING CODE 4410-PB-P